DEPARTMENT OF HOMELAND SECURITY

Coast Guard

[Docket Number USCG-2023-0330]

Removal of Smith Point Traffic Separation Scheme From Nautical Charts

AGENCY: Coast Guard, DHS.

ACTION: Notice of inquiry; request for comments

SUMMARY: We, the Coast Guard, have received requests to remove a vessel traffic routing measure, which is known as the “Smith Point Traffic Separation Scheme” (TSS) and depicted on the nautical charts of the Chesapeake Bay. If there is no longer a need for this measure, we would request that the National Oceanic and Atmospheric Administration (NOAA), which produces the nation's nautical charts, remove the TSS from these charts and take out language regarding the TSS from the applicable Coast Pilot. We would then make conforming changes to the buoy that marks the turning point in the separation zone of the TSS. We are seeking comments on whether there is any continued need for this vessel traffic routing measure before we do so.

DATES: Your comments and related material must reach the Coast Guard on or before November 20, 2023.

ADDRESSES: You may submit comments identified by docket number USCG-2023-0330 using the Federal portal at https://www.regulations.gov. See the “Public Participation and Request for Comments” portion of the SUPPLEMENTARY INFORMATION section for further instructions on submitting comments.

FOR FURTHER INFORMATION CONTACT: If you have questions about this notice of inquiry, call or email, LTJG Carmel McAndrews, District Prevention Waterways Management Office, U.S. Coast Guard; telephone: 757-398-6298 or email at Carmel.M.McAndrews@uscg.mil.

SUPPLEMENTARY INFORMATION:

I. Table of Abbreviations

CFR Code of Federal Regulations

DHS Department of Homeland Security

FR Federal Register

TSS Traffic Separation Scheme

U.S.C. United States Code

II. Background and Purpose

The Smith Point TSS was put in place in 1969, before the promulgation of any regulations governing formal Traffic Separation Schemes. It was never formally established by rule and exists only as a notation on the nautical charts. Lying at the mouth of the Potomac River, in the Chesapeake Bay, just south of the border between Maryland and Virginia, it has historically been used by vessel traffic that transits to and from destinations within the Lower Chesapeake Bay, the Potomac River, and the Upper Chesapeake Bay. In contrast to Offshore TSS's, which are codified in 33 CFR part 167, and which are the only TSS's that have been established by rule to date, the Smith Point TSS lies in the inland waters, as defined in 33 CFR 2.26.

See Figure 1, contained in a “Figures” document separate from this Notice of Inquiry, for a graphical depiction of the Smith Point TSS. For instructions on locating the “Figures” document, see the “Public Participation and Request for Comments” portion of the SUPPLEMENTARY INFORMATION section.

As nearby ports and indeed the maritime industry itself have grown over the fifty years since the Smith Point TSS was first charted, traffic patterns, traffic density, and vessel sizes have all changed considerably. Meanwhile, both the development and growth of the port community, and the growth in the size of the ships navigating these waters, appear to have rendered the Smith Point TSS obsolete. With the advent of the Global Positioning System, Automatic Identification System and overall improved navigation technology since 1969, today's maritime pilots have better communications and awareness of the locations of other vessels navigating in the vicinity of Smith Point. These pilots have safely coordinated large vessel traffic despite not being able to use the TSS as designed.

Due to the increase in size and draft of typical cargo vessels since the Smith Point TSS was first identified on the charts in 1969, depths in the north-bound and south-bound vessel traffic lanes are inadequate for modern deep draft vessels transiting through this area and today's larger vessels can no longer use the routing measure as designed. The natural bottom contours of the Bay provide the greatest depths in the center of the southbound lane of the TSS. See Figures 2 & 3 in the Figures document in the docket. And while the Inland Navigational Rules (eCFR, 2023) provide that a vessel shall, so far as practicable, avoid crossing traffic lanes, larger inbound vessels must use the opposing outbound lane of the Smith Point TSS to avoid the risk of grounding. This scenario leads to a traffic pattern contrary to the charted routing measure and not in accordance with Rule 10 of the Inland Rules, which may actually increase the risk of collisions. As the Smith Point TSS appears to be counterproductive today, we are seeking public comments regarding its continued need.

If after consideration of the comments received we determine that the Smith Point TSS should be removed from nautical charts and publications, we will then reestablish the current Smith Point Fairway Lighted Buoy SP (LLNR 7490), which marks the turning point of the TSS separation zone, as the Smith Point Lighted Buoy SP, a white and red striped Safe Water Buoy. The light will change from yellow to white with Morse Code “A” flash characteristic. We also seek public comment from waterway users on the Coast Guard's plan to change the signal and meaning of this buoy.

III. Information Requested

If you believe there is some reason the Smith Point TSS should be retained, please let us know that and provide us with your reasoning for wanting to keep it in place. Please include comments regarding the potential impacts of this possible change and any other concerns that you may have regarding the Smith Point TSS.

IV. Public Participation and Request for Comments

We encourage you to submit comments in response to this notification of inquiry through the Federal Decision Making portal at https://www.regulations.gov. To do so, go to https://www.regulations.gov, type USCG-2023-0330 in the search box and click “Search.” Next, look for this document in the Search Results column, and click on it. Then click on the Comment option. In your submission, please include the docket number for this notification of inquiry and provide a reason for each suggestion or recommendation. If your material cannot be submitted using https://www.regulations.gov, contact the person in the FOR FURTHER INFORMATION CONTACT section of this document for alternate instructions.

To view documents mentioned in this notification of inquiry as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

We do not plan to hold a public meeting to receive oral comments on this notification of inquiry; however, should the need arise, we will announce the date, time, and location in a separate document published in the Federal Register. If you have signed up for docket email alerts mentioned in the paragraph above, you will receive an email notice when the public meeting notice is published and placed in the docket.

This document is issued under authority of 5 U.S.C. 552(a).

Dated: August 15, 2023.
Mary Ellen J. Durley,
Captain, U.S. Coast Guard, Acting Commander, Fifth Coast Guard District.

[FR Doc. 2023-17849 Filed 8-18-23; 8:45 am]

BILLING CODE 9110-04-P